DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 3, 2007.

Interested persons are invited to submit written comments regarding the subject matter of the investigations to the Director, Division of Trade Adjustment Assistance, at the address shown below, not later than May 3, 2007.

The petitions filed in this case are available for inspection at the Office of the Director, Division of Trade Adjustment Assistance, Employment and Training Administration, U.S. Department of Labor, Room C-5311, 200 Constitution Avenue, NW., Washington, DC 20210.

Signed at Washington, DC, this 10th day of April 2007.
Ralph DiBattista,
Director, Division of Trade Adjustment Assistance.

Appendix
[TAA petitions instituted between 4/2/07 and 4/6/07]
TA-W | Subject firm (petitioners) | Location | Date of institution | Date of petition
61221 | Hickory Hardware/Belwith International Ltd (Comp) | Grandville, MI | 04/02/07 | 04/01/07
61222 | Good Companion Sewing Co. (Wkrs) | San Francisco, CA | 04/02/07 | 03/30/07
61223 | ITW Waterbury Buckle (State) | Waterbury, CT | 04/02/07 | 03/30/07
61224 | Opportunity Inc. (Comp) | Highland Park, IL | 04/02/07 | 04/02/07
61225 | Royal Home Fashions (Comp) | Henderson, NC | 04/02/07 | 03/30/07
61226 | Delphi Corporation (Other) | Flint, MI | 04/02/07 | 03/30/07
61227 | Acument Global Technologies Camar LLC (Comp) | Decorah, IA | 04/02/07 | 03/30/07
61228 | Form Tools Incorporated (Wkrs) | Jackson, MI | 04/02/07 | 03/30/07
61229 | Aurra Industries, A Remy Inc. Company (Comp) | Edmond, OK | 04/02/07 | 03/14/07
61230 | Transwitch Corporation (Wkrs) | Shelton, CT | 04/02/07 | 03/27/07
61231 | Staffmark Investment LLC AAA Human Capital LLC (State) | Enfield, CT | 04/02/07 | 03/30/07
61232 | Wheatland Tube Co. (USW) | Wheatland, PA | 04/02/07 | 03/28/07
61233 | Sara Lee (Wkrs) | Rockingham, NC | 04/03/07 | 04/02/07
61234 | Penn Mould Industries (Union) | Washington, PA | 04/03/07 | 03/29/07
61235 | WCI Steel, Inc. (Comp) | Warren, OH | 04/03/07 | 04/02/07
61236 | Precision Technologies, Inc. (Comp) | Reno, PA | 04/03/07 | 04/02/07
61237 | Oneida Ltd. (Comp) | Oneida, NY | 04/03/07 | 03/14/07
61238 | Quality Transparent Bag Co. Inc. (Comp) | Bay City, MI | 04/03/07 | 03/30/07
61239 | Direct Holdings Libraries, Inc. (Wkrs) | Chicago, IL | 04/03/07 | 04/02/07
61240 | Graphic Packaging Int'l, Inc. (Comp) | Wausau, WI | 04/03/07 | 03/30/07
61241 | Navisa Inc. (State) | Brenham, TX | 04/03/07 | 04/02/07
61242 | Visteon Corporation (Comp) | Chicago, IL | 04/03/07 | 03/16/07
61243 | Ferro Electronics Material Systems (Comp) | Niagara Falls, NY | 04/04/07 | 04/04/07
61244 | Lear Corporation-Sheboygan (UAW) | Sheboygan, WI | 04/04/07 | 03/09/07
61245 | Addson Shoe Company A Div. of Munro & Co., Inc. (State) | Wynne, AR | 04/05/07 | 04/04/07
61246 | Little Valley facility of Bush Industries Inc. (Comp) | Little Valley, NY | 04/05/07 | 04/02/07
61247 | Anderson Corporation (State) | Bayport, MN | 04/05/07 | 04/04/07
61248 | Bearing Point/Creative Services (Comp) | New York, NY | 04/05/07 | 03/13/07
61249 | Cintas (Wkrs) | Mason, OH | 04/05/07 | 03/04/07
61250 | Thomasville Furniture (Plant 8) (Wkrs) | Hickory, NC | 04/05/07 | 04/05/07
61251 | Mount Vernon Mills Johnston Division (Comp) | Johnston, SC | 04/05/07 | 04/03/07
61252 | Wetherill Assciates Inc./Transpo (State) | Orlando, FL | 04/05/07 | 03/27/07
61253 | Keystone Powered Metal (Comp) | Columbus, OH | 04/05/07 | 04/03/07
61254 | Robinson-Anton (Comp) | Fairview, NJ | 04/06/07 | 04/05/07
61255 | Unisys Corporation (Wkrs) | Blue Bell, PA | 04/06/07 | 04/04/07
61256 | E.B.I. (Wkrs) | Allendale, NJ | 04/06/07 | 03/20/07
61257 | Marathon Electronic (IUE) | Lima, OH | 04/06/07 | 04/05/07
61258 | Springs Global US, Inc. Grace Complex (Comp) | Lancaster, SC | 04/06/07 | 04/05/07
61259 | Amtek Gears Inc. (Wkrs) | Bay City, MI | 04/06/07 | 04/05/07
61260 | Target Sales Corporation (Comp) | Frisco, TX | 04/06/07 | 03/29/07

[FR Doc. E7-7614 Filed 4-20-07; 8:45 am]

BILLING CODE 4510-FN-P